DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: American Community Survey.

OMB Control Number: 0607-0810.

Form Number(s): ACS-1, ACS-1(SP), ACS-1PR, ACS-1PR(SP), ACS CATI(HU), ACS CAPI(HU), ACS Internet (HU), ACS-1(GQ), ACS-1(GQ)(PR).

Type of Request: Revision of a currently approved collection.

Burden Hours: 2,455,868.

Number of Respondents: 3,760,000.

Average Hours per Response: 40 minutes for the average household questionnaire.

Needs and Uses: The U.S. Census Bureau requests authorization from the Office of Management and Budget (OMB) for revisions to the American Community Survey (ACS). The Census Bureau has developed a methodology to collect and update demographic, social, economic, and housing data every year that are essentially the same as the “long-form” data that the Census Bureau traditionally has collected once a decade as part of the decennial census. Federal and state government agencies use such data to evaluate and manage federal programs and to distribute funding for various programs that include food stamp benefits, transportation dollars, and housing grants. State, county, and community governments, nonprofit organizations, businesses, and the general public use information like housing quality, income distribution, journey-to-work patterns, immigration data, and regional age distributions for decision-making and program evaluation.

In years past, the Census Bureau collected the long-form data only once every ten years and it became out of date over the course of the decade. To provide more timely data, the Census Bureau developed the ACS. The ACS blends the strength of small area estimation with the high quality of current surveys. There is an increasing need for current data describing lower geographic detail. The ACS is now the only source of data available for small-area levels across the Nation and in Puerto Rico. In addition, there is an increased interest in obtaining data for small subpopulations such as groups within the Hispanic, Asian, and American Indian populations, the elderly, and children. The ACS provides current data throughout the decade for small areas and subpopulations.

Using the Master Address File (MAF) from the decennial census, which is updated each year, we select a sample of addresses and mail survey materials each month to a new group of potential households. Most households are asked first to complete the survey via the Internet, with a paper questionnaire provided to those households that do not respond via Internet. We then attempt to conduct interviews over the telephone with households that have not responded either by mail or Internet. Upon completion of the telephone follow-up, we select a sub-sample of the remaining households that have not responded either by mail, Internet, or telephone and designate the household for a personal interview. Typically, for personal interviews, we sample at a rate of one in three. We also conduct interviews with a sample of residents at a selected group quarters (GQ) facilities. Collecting these data from a new sample of housing units (HUs) and GQ facilities every month provides more timely data and lessens respondent burden in the Decennial Census.

The goals of the ACS are to:

• Provide federal, state, and local governments an information base for the administration and evaluation of government programs; and

• Provide data users with timely demographic, housing, social, and economic data updated every year that can be compared across states, communities, and population groups.

The content of the proposed 2014 ACS questionnaire and data collection instruments for both housing unit and group quarters operations reflect changes to content and instructions that were proposed in 2012. A two-part question on Health Insurance Premiums and Subsidies will be added. The race question will be modified to remove the term “Negro” from the “Black, African Am., or Negro” response category. Additional response categories will be added for housing units classified as “other vacant” to provide information that is more precise. Finally, the Number of Times Married question will be removed.

Affected Public: Individuals or households.

Frequency: Response to the ACS is on a one-time basis.

Respondent's Obligation: Mandatory.

Legal Authority: Title 13, United States Code, Sections 141, 193, and 221.

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent within 30 days of publication of this notice to Brian Harris-Kojetin, OMB Desk Officer either by fax (202-395-7245) or email (bharrisk@omb.eop.gov).

Dated: April 11, 2013
Glenna Mickelson,
Management Analyst, Office of the Chief Information Officer.

[FR Doc. 2013-08876 Filed 4-15-13; 8:45 am]

BILLING CODE 3510-07-P